DEPARTMENT OF THE INTERIOR

Office of Surface Mining Reclamation and Enforcement

30 CFR Part 870

RIN 1029-AB95

Abandoned Mine Land (AML) Fee Collection and Coal Production Reporting on the OSM-1 Form

AGENCY: Office of Surface Mining Reclamation and Enforcement, Interior.

ACTION: Proposed rule; reopening and extension of the comment period.

SUMMARY: We, the Office of Surface Mining Reclamation and Enforcement (OSM) are reopening and extending the comment period on a proposal to amend our regulations governing Abandoned Mine Land (AML) reclamation fee reporting to allow for the electronic filing of the information required on the OSM-1 Form.

DATES: Written comments: We will accept written comments on the proposed rule until 5 p.m., Eastern time, on February 21, 2001.

ADDRESSES: If you wish to comment, you may submit your comments by any one of the following methods. You may mail or hand-deliver comments to the Office of Surface Mining Reclamation and Enforcement, Administrative Record, Room 101, 1951 Constitution Avenue, NW, Washington, DC 20240. You may also submit comments to OSM via the Internet at: osmrules@osmre.gov.

FOR FURTHER INFORMATION CONTACT: Mr. Sean Spillane, Office of Surface Mining Reclamation and Enforcement, Denver Federal Center, Building 20k, Room B-2005, Denver, Colorado 80225; Telephone 303-236-0330, Ext. 278. E-mail: sspkillan@osmre.gov.

SUPPLEMENTARY INFORMATION:

I. Background Information

II. How Would the Electronic Submission Process Work?

III. How Do I Submit Comments on the Proposed Rule?

I. Background Information

On February 15, 2000 (65 FR 7706), we published a proposed rule which would revise our regulations to allow a coal operator (or the entity reporting for the operator) the option of filing the OSM-1 Form electronically. Because of the notary requirement in section 402(c) of the Surface Mining Control and Reclamation Act of 1977 (SMCRA), the proposed rule also required the operator to print out and maintain on file, a properly notarized paper copy of the OSM-1 Form for review by OSM's Fee Compliance auditors. In the proposed rule published on February 15, 2000, section 870.17(b) reads in part as follows: (b) Maintain a properly notarized paper copy of the identical OSM-1 Form for review and approval by OSM's Fee Compliance auditors.

In order to further simplify the process and to make it easier for the operator to store records electronically, we are considering an option which would eliminate the need for the operator to notarize the OSM-1 Form and maintain a paper copy on file. We are considering adopting a final rule which would allow the operator to electronically submit the OSM-1 Form and include a statement made under penalty of perjury that the information contained in the OSM-1 Form is true and correct. The statement would not have to be notarized but it would have to be electronically signed, dated, and transmitted to OSM as part of the OSM-1 Form. In the final rule, section 870.17(b) would read as follows: (b) Submit an electronically signed and dated statement made under penalty of perjury that the information contained in the OSM-1 Form is true and correct.

The authority for filing the form without notarization is found in 28 U.S.C. 1746. Section 1746 provides in part:

Wherever, under any law of the United States or under any rule, regulations, order, or requirement made pursuant to law, any matter is required or permitted to be supported, evidenced, established, or proved by the sworn declaration, verification, certificate, statement, oath, or affidavit, in writing of the person making the same (other than a deposition, or an oath of office, or an oath required to be taken before a specified official other than a notary public), such matter may, with like force and effect, be supported, evidenced, established, or proved by the unsworn declaration, certificate, verification, or statement, in writing of such person which is subscribed by him, as true under penalty of perjury and dated, in substantially the following form:

* * * * *

(2) If executed within the United States, its territories, possessions, or commonwealths: “I declare (or certify, verify, or state) under penalty of perjury that the foregoing is true and correct. Executed on (date). (Signature)”.

The option of using a signed a dated electronic statement made under penalty of perjury in lieu of a notarized statement will facilitate compliance with the requirements of the Government Paperwork Elimination Act (GPEA), Pub. L. 105-277, Title XVII. GPEA requires agencies, by October 21, 2003, to provide for (1) the option of electronic maintenance, submission, or disclosure of information, when practicable as a substitute for paper; and (2) the use and acceptance of electronic signatures, when practicable. GPEA specifically states that electronic records and their related electronic signatures are not to be denied legal effect, validity, or enforceability merely because they are in electronic form.

Comments are also requested on whether in addition to the option being proposed today, we should also retain the notary option published in the Federal Register on February 15, 2000. If both options are adopted, the final rule would provide the operator with two choices in addition to the existing process: Either sending the OSM-1 Form data electronically while maintaining a properly notarized paper copy of the OSM-1 Form, or sending the OSM-1 Form data electronically with an electronically signed and dated statement made under penalty of perjury.

As previously stated, the electronic submission of the OSM-1 Form would be an option that is available to the operator. Even if a final rule is adopted which allows the submission of the OSM-1 Form electronically, we would continue to accept the quarterly filing of the OSM-1 Form in paper format with the sworn, notarized statement that is currently in use.

Because 28 U.S.C. 1746 already allows the operator to use an unsworn statement made under penalty of perjury in lieu of a sworn, notarized statement, we are considering modifying the paper form to incorporate an appropriate signature block for this provision. The new paper form, if adopted, would allow the operator to submit either the sworn, notarized statement, or an unsworn statement made under penalty of perjury. We believe that this modification would further simplify reporting requirements for operators. Your comments on this matter are also requested.

How Would the Electronic Submission Process Work?

We intend to develop a website where companies will be able to log in an complete the OSM-1 Form on-line. Access to the website will be controlled by ID and password which will be used as the method of electronic signature. When initially accessing the website, companies will be able to down-load encryption software which is free. The data which is encrypted can be read only by the company and OSM and the data submitted by the company cannot be changed by unauthorized persons. A file transfer protocol (FTP) version of the electronic OSM-1 Form will allow companies with a large number of reporting permits to automate their filing process by transferring their data report files directly from their computer to OSM. The FTP process will use a form of electronic signature called a Public Key Infrastructure (PKI). PKI is a system for encrypting, decrypting, signing and verifying the data transferred electronically. With PKI, the company (user) can obtain a free download of the software for a private signing key. With this key, the user creates a digital signature on an electronic file or encrypts the data. OSM, as the recipient of the file, employs the public key to validate the signature made with the private key or decrypts the data. The two keys are mathematically linked and form a unique pair. Only the public key can validate the signature made with the associated private key(s). This process also verifies that the file has not been altered since its encryption. The companies that use FTP will also need a user identification and password to enable them to print their OSM report from the website after their data is transferred.

II. How Do I Submit Comments on the Proposed Rule?

Written Comments: If you submit written or electronic comment on the proposed rule during the 30-day extended comment period, they should be specific, should be confined to issues pertinent to the notice, and should explain the reason for any recommended change(s). Where practical, you should submit three copies of your comments. We may not be able to consider or include in the Administrative Record comments delivered to an address other than those listed above (see ADDRESSES).

Electronic Comment: Please submit Internet comments as an ASCII or WordPerfect file avoiding the use of special characters and any form of encryption. Please also include “Attn: RIN 1029-AB95” and your name and return address in your Internet message. If you do not receive a confirmation from the system that we have received your Internet message, contact us directly at 202-208-2847.

Availability of Comments: Our practice is to make comments, including names and home addresses of respondents, available for public review during regular business hours at the OSM Administrative Record Room (see ADDRESSES). Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entity.

Dated: January 16, 2001.
Kathrine L. Henry,
Acting Director, Office of Surface Mining Reclamation and Enforcement.

[FR Doc. 01-1765 Filed 1-19-01; 8:45 am]

BILLING CODE 4310-05-M